OFFICE OF THE UNITED STATES TRADE REPRESENTATIVE

Exclusion of Particular Products From Actions Under Section 203 of the Trade Act of 1974 With Regard to Certain Steel Products; and Conforming Changes to the Harmonized Tariff Schedule of the United States

AGENCY: Office of the United States Trade Representative.

ACTION: Notice.

SUMMARY: Pursuant to authority granted to the United States Trade Representative (USTR) in Presidential Proclamation 7529 of March 5, 2002 (67 FR 10553), the USTR has found that particular products should be excluded from actions under section 203 of the Trade Act of 1974 (19 U.S.C. 2253) (Trade Act) with regard to certain steel products, and is modifying subchapter III of chapter 99 of the Harmonized Tariff Schedule of the United States (HTS) as set forth in the annex to this notice to implement these exclusions.

EFFECTIVE DATE: March 20, 2002.

FOR FURTHER INFORMATION CONTACT: Office of Industry, Office of the United States Trade Representative, 600 17th Street, NW, Room 501, Washington DC, 20508. Telephone (202) 395-5656.

SUPPLEMENTARY INFORMATION: On October 22, 2001, the ITC issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products.

On March 5, 2002, the President issued Proclamation 7529, which established increases in duty and a tariff-rate quota (safeguard measures) pursuant to section 203 of the Trade Act on imports of ten steel products described in paragraph 7 of that proclamation. See 67 FR 10553 (March 7, 2002). Effective with respect to goods entered, or withdrawn from warehouse for consumption, on or after 12:01 a.m., EST, on March 20, 2002, Proclamation 7529 modifies the HTS so as to provide for such increased duties and a tariff-rate quota. Proclamation 7529 also delegated to the USTR the authority to consider requests for exclusions of particular products submitted in accordance with the procedures set out in 66 FR 54321, 54322-54323 (October 26, 2001) and, upon publication in the Federal Register of a notice of his finding that a particular product should be excluded, to modify the HTS provisions created by the Annex to that proclamation to exclude such particular product from the pertinent safeguard measure.

I have further considered exclusion requests for certain products designated as X-036, X-045, X-082, X-142, X-171.1, X-171.2, X-184, and X-192. I find that the exclusion of the steel products described in subdivisions (b)(l) through (b)(liv) of U.S. note 11 to subchapter III of chapter 99 of the HTS, as amended in the Annex to this notice, from the safeguard measures established in Proclamation 7529 would not undermine the goals of those safeguard measures. Therefore, I find that these products should be excluded from those safeguard measures. Accordingly, under authority vested in the USTR by Proclamation 7529, I modify the HTS provisions created by the Annex to Proclamation 7529 as set forth in the annex to this notice, which shall be embodied in the HTS with respect to goods entered, or withdrawn from warehouse for consumption, on or after March 20, 2002.

Robert B. Zoellick,
United States Trade Representative.

Annex

The HTS is modified as set forth in this annex, with bracketed matter included to assist in the understanding of the modifications. The following provisions supersede matter now in the Harmonized Tariff Schedule of the United States (HTS). The new subheading and superior text thereto being inserted by this notice are set forth in columnar format, and material in such columns is inserted in the columns of the HTS designated “Heading/Subheading”, “Article Description”, “Rates of Duty 1 General”, “Rates of Duty 1 Special”, and Rates of Duty 2”, respectively.

Effective with respect to articles entered, or withdrawn from warehouse for consumption, on or after 12:01 a.m., EST, on March 20, 2002, the HTS is modified as follows:

(1) U.S. note 11 to subchapter III of chapter 99 of the HTS is modified:

(a) In subdivision (b)(xxvii), by redesignating subdivision (B) as subdivision (C), and inserting the following new subdivision (B) in alphabetical sequence:

“(B) certain batch annealed and temper-rolled cold-rolled continuously cast steel products (including tin mill black plate), meeting the following characteristics: chemical composition (in percent by weight) of carbon not over 0.08, silicon not over 0.04, manganese not over 0.40, phosphorus not over 0.03, sulfur not over 0.03 and aluminum from 0.010-0.07l; thickness tolerance of +/−5 percent (aim +/−4 percent), guaranteed inside of 15 mm from mill edges; width tolerance of −0/+7 mm; hardness of Hv 85-110; tensile strength 275N/mm2 or more; elongation 36 percent or more; grain equaixed; grain size minimum 8.5; Lankford value greater than 1.2; and delta r value less than +/−0.2; or''

(b) in subdivision (b)(xxxii), by redesignating subdivision (B) and (C) as (C) and (D), respectively, and inserting the following new subdivision (B) in alphabetical sequence:

“(B) non-oriented, high silicon, magnetic steel flat-rolled steel products with the following characteristics: silicon density gradient of between 4 percent by weight (center) and 6.5 percent by weight (surface); thickness from 0.05-0.30 mm; width 20-600 mm; chemical composition (in percent by weight): carbon 0.010 maximum, manganese 0.15 maximum, phosphorus 0.015 maximum, sulfur 0.005 maximum, silicon 4.0 or more but not over 7.0 and aluminum 0.004 maximum; mechanical properties: hardness of 380-420 HV (micro vickers); magnetic properties: strikethrough: saturation induction over 1.85 Tesla; and core loss: strikethrough W1/10k less than 20.4W/kg or W.5/20k less than 24.0 W/kg;”

(c) by inserting the following new subdivisions in numerical sequence at the end of subdivision (b):

“(l) hot-rolled flat-rolled steel, designated as X-082, in coils, either in widths not over 1,168.4 mm then having coil weights of 21.43 kg per mm of width and greater and entered in an aggregate annual quantity not to exceed 200,000 metric tons, or in widths over 1,168.4 mm but not over 1,244.6 mm then having coil weights of 19.64 kg per mm of width or more and entered in an aggregate annual quantity not to exceed 50,000 metric tons, all the foregoing widths having a width tolerance of not more than 12.00 mm; having a camber tolerance of not more than 15 mm per 1000 cm, in thicknesses ranging from 1.80 mm to 3.00 mm with thickness tolerances of ±0.05 mm, and with a maximum flatness deviation measured as not to exceed 2.5 percent steepness ratio (defined as height over the wave length); the foregoing goods having the following chemical compositions and widths:

(A) Of a width from 733 to 1,244.6 mm, inclusive, and containing by weight 0.010-0.08 percent of carbon, 0.16-0.30 percent of manganese, 0.025 percent maximum of silicon, 0.020 percent maximum of phosphorus, 0.020 percent maximum of sulfur, 0.008 percent maximum of nitrogen and 0.02-0.08 percent of aluminum;

(B) of a width from 915 to 1,244.6 mm, inclusive, and containing by weight 0.08-0.13 percent of carbon, 0.30-0.60 percent of manganese, 0.035 percent maximum of silicon, 0.025 percent maximum of phosphorus, 0.025 percent maximum of sulfur, 0.008 percent maximum of nitrogen and 0.02-0.07 percent of aluminum;

(C) of a width from 762 to 1,244.6 mm, inclusive and containing by weight 0.13-0.17 percent of carbon, 0.30-0.60 percent of manganese, 0.035 percent maximum of silicon, 0.025 percent maximum of phosphorus, 0.025 percent maximum of sulfur, 0.010 percent maximum of nitrogen and 0.02-0.07 percent of aluminum; or

(D) of a width from 733 to 1,244.6 mm, inclusive, and containing by weight 0.010 percent maximum of carbon, 0.10-0.20 percent of manganese, 0.030 percent maximum of silicon, 0.020 percent maximum of phosphorus, 0.020 percent maximum of sulfur, 0.007 percent maximum of nitrogen, 0.02-0.075 percent of aluminum and 0.15 percent maximum of titanium;

all the foregoing certified by the importer of record to be used for rerolling in a reversing cold reduction mill, with a reduction in thickness during the cold rolling process of at least 40 percent;

(li) hot-rolled flat-rolled steel products, in coils, measuring 5.0 mm × 533.5 mm per coil; having the chemical composition (in percent by weight) carbon 0.11 percent-0.17 percent, silicon not over 0.10 percent, manganese 0.30-0.60 percent, phosphorus not over 0.025 percent, sulfur not over 0.025 percent, molybdenum 0.20-0.50 percent, vanadium 0.04-0.11 percent and aluminum 0.02-0.08 percent; yield strength 400N/mm2 or greater; tensile strength 490-610 N/mm2 and elongation equal to or exceeding 22 percent, the foregoing designated as X-142;

(lii) products designated as X-171, as described below:

(A) electrolytically chromium coated steel, single reduced, temper T-5 CA, from 0.279 mm to 0.300 mm in thickness, in widths equal to 1065.213 mm (ordered) or widths equal to 1071.563 mm (actual); or

(B) ultra-wide electrolytically tin-plated drawn and ironed (“D&I”) steel, single reduced, T-4 CA, from 0.270 mm to 0.285 mm in thickness, in widths equal to 1146.175 mm (ordered) or in widths equal to 1152.525 mm (actual);

(liii) ball-bearing steel (as defined in additional U.S. note 1(h) to chapter 72 of the tariff schedule) hot-rolled bars and rods, in coils, having a diameter less than 47.625 mm; the foregoing designated as X-184;

(liv) special flat-rolled nonalloy carbon steel products, not further worked than hot-rolled, of a width of 160 mm or more and a thickness of 8 mm to 50 mm, inclusive, with rounded edges and corners and certified and die-stamped with the mark of a national shipbuilding classification society, the foregoing designated as X-045 or X-192.”

(2) The subheadings set forth below are inserted in subchapter III of chapter 99 in numerical sequence:

| [Flat-rolled...:] |  |  |
| [Goods...:] |  |  |
“9903.72.54 | Enumerated in U.S. note 11(b)(liv) to this subchapter and designated as X-045 or X-192 | No change | No change | No change
| [Flat-rolled...:] |  |  |
| [Goods...:] |  |  |
9903.72.75 | Enumerated in U.S. note 11(b)(l) to this subchapter, having a width not over 1,168.4 mm, if entered in an aggregate annual quantity not to exceed 200,000 metric tons, and designated as X-082 | No change | No change | No change
9903.72.76 | Enumerated in U.S. note 11(b)(l) to this subchapter, having a width over 1,168.4 mm, if entered in an aggregate annual quantity not to exceed 50,000 metric tons, and designated as X-082 | No change | No change | No change
| [Flat-rolled...:] |  |  |
| [Goods...:] |  |  |
9903.73.31 | Enumerated in U.S. note 11(b)(lii) to this subchapter and designated as X-171 | No change | No change | No change
| [Bars...:] |  |  |
| [Goods...:] |  |  |
9903.73.45 | Enumerated in U.S. note 11(b)(liii) to this subchapter and designated as X-184 | No change | No change | No change”

(3) The expression “or (li)” is inserted in the article description of subheading 9903.72.73 immediately after “11(b)(xxiii).''

[FR Doc. 02-8332 Filed 4-4-02; 8:45 am]

BILLING CODE 3190-01-P